DEPARTMENT OF HEALTH AND HUMAN SERVICES

Meeting of the Presidential Advisory Council on HIV/AIDS

AGENCY: Office of the Secretary, Office of Public Health and Science, HHS.

ACTION: Notice of meeting.

SUMMARY: As stipulated by the Federal Advisory Committee Act, the Department of Health and Human Services (DHHS) is hereby giving notice that the Presidential Advisory Council on HIV/AIDS (PACHA) will hold a meeting. This meeting is open to the public. A description of the Council's functions is included also with this notice.

Date and Time: February 7, 2005 8:30 a.m. to 5 p.m., and February 8, 2005, 8:30 a.m. to 4 p.m.

ADDRESSES: Hubert H. Humphrey Building, 200 Independence Avenue, SW., Washington, DC 20201. Conference Room 800.

FOR FURTHER INFORMATION CONTACT: Joseph Grogan, Esq., Executive Director, Presidential Advisory Council on HIV/AIDS, U.S. Department of Health and Human Services, Hubert H. Humphrey Building, 200 Independence Avenue, SW., Room 736E, Washington, DC 20201; or visit the Council's Web site at http://www.pacha.gov.

SUPPLEMENTARY INFORMATION: PACHA was established by Executive Order 12963, dated June 14, 1995, as amended by Executive Order 13009, dated June 14, 1996. PACHA was established to provide advice, information, and recommendations to the President regarding programs and policies intended to (a) Promote effective prevention of HIV disease, (b) advance research on HIV and AIDS, and (c) promote quality services to persons living with HIV disease and AIDS. PACHA was established to serve solely as an advisory body to the President and the Secretary of Health and Human Services. PACHA is composed of not more than 35 members. PACHA membership is determined by the Secretary from individuals who are considered authorities with particular expertise in, or knowledge of, matters concerning HIV/AIDS.

The agenda for this meeting includes the following topics: HIV/AIDS prevention, care and treatment, and global HIV/AIDS issues. Time will be allotted during the meeting for public comment.

Public attendance is limited to space available and pre-registration is required for both attendance and public comment. Any individual who wishes to attend and/or comment must call (202) 690-2470 to register. Individuals must provide a government issued photo ID for entry into the meeting. Individuals who need special assistance, such as sign language interpretation or other reasonable accommodations, should notify the registrar.

Members of the public will have the opportunity to provide comments at the meeting. Public comment will be limited to three (3) minutes per speaker and to time available. Written testimony, not exceed five (5) pages, will be accepted by mail or facsimile at 202/358-2917. Written testimony will not be accepted after 5 p.m., Wednesday, February 2 , 2005.

Dated: January 13, 2005.
Joseph Grogan,
Executive Director, Presidential Advisory Council on HIV/AIDS.

[FR Doc. 05-1265 Filed 1-24-05; 8:45 am]

BILLING CODE 4150-28-P